DEPARTMENT OF THE INTERIOR

National Park Service

[NPS-WASO-NAGPRA-17479; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate federally recognized Indian tribes and has determined that there is no cultural affiliation between the human remains and any present-day federally recognized Indian tribes. Representatives of any federally recognized Indian tribe not identified in this notice that wish to request transfer of control of these human remains should submit a written request to TVA. If no additional requestors come forward, transfer of control of the human remains to the federally recognized Indian tribes stated in this notice may proceed.

DATES: Representatives of any federally recognized Indian tribe not identified in this notice that wish to request transfer of control of these human remains should submit a written request with information in support of the request to TVA at the address in this notice by March 6, 2015.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains under the control and possession of TVA. The human remains were likely removed from the Citico site, 40MR7, in Monroe County, TN, as a result of unauthorized digging. The human remains were anonymously delivered to TVA in the 1990s.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA's professional staff in consultation with representatives of the Absentee Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Shawnee Tribe; The Chickasaw Nation; The Muscogee (Creek) Nation; The Seminole Nation of Oklahoma; Thlopthlocco Tribal Town; and the United Keetoowah Band of Cherokee Indians in Oklahoma.

History and Description of the Remains

TVA has in its control and possession human remains representing, at minimum, 12 individuals. All are adults. Four have been determined to be female and two to be male. The sex of the other 6 individuals is indeterminate. Composed primarily of cranial bones, oral history indicates that the human remains were sent to the Tennessee Valley Authority after November 16, 1990, but excavated before the passage of NAGPRA. These human remains likely resulted from the unauthorized digging that took place at the Citico site between 1968 and 1978. Their context within the site and chronological placement is unknown.

The Citico site was excavated by the University of Tennessee in 1967 and 1968 under a contract with the National Park Service. The site was exposed using heavy equipment and the excavation focused on features, burials, and mound stratigraphy. These excavations were a result of the impoundment of the Little Tennessee River as part of TVA's Tellico Dam and Reservoir project. Subsequent to the professional excavation, the site was damaged by unauthorized digging.

Excavations at the Citico site revealed two dominate occupations: A Mississippian Dallas phase occupation (A.D. 1300-1550) and a later eighteenth century Overhill Cherokee occupation. Since no funerary objects accompanied these human remains, it is not known if they were derived from the Dallas phase or the historic Cherokee occupation. The lack of any detailed information on these human remains leads TVA to designate them as culturally unidentifiable.

Determinations Made by the Tennessee Valley Authority

Officials of TVA have determined that:

• Pursuant to 25 U.S.C. 3001(9), the human remains described in this notice are Native American based on their presence in prehistoric archeological contexts.

• Pursuant to 25 U.S.C. 3001(9), the human remains described in this notice represent the physical remains of 12 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, and the United Keetoowah Band of Cherokee Indians in Oklahoma.

• Pursuant to 43 CFR 10.11(c)(1)(ii), TVA has decided to transfer control of the culturally unidentifiable human remains to the Cherokee Nation, Eastern Band of Cherokee Indians, and the United Keetoowah Band of Cherokee Indians in Oklahoma.

Additional Requestors and Disposition

Representatives of any federally recognized Indian tribe not identified in this notice that wish to request transfer of control of these human remains should submit a written request with information in support of the request to Dr. Thomas O. Maher, TVA, 400 West Summit Hill Drive, WT11D, Knoxville, TN 37902-1401, telephone (865) 632-7458, email tomaher@tva.gov, by March 6, 2015. After that date, if no additional requestors have come forward, transfer of control of the human remains to the Cherokee Nation, Eastern Band of Cherokee Indians, and the United Keetoowah Band of Cherokee Indians in Oklahoma may proceed.

TVA is responsible for notifying the Absentee Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Shawnee Tribe; The Chickasaw Nation; The Muscogee (Creek) Nation; The Seminole Nation of Oklahoma; Thlopthlocco Tribal Town; and the United Keetoowah Band of Cherokee Indians in Oklahoma that this notice has been published.

Dated: January 13, 2015.
Melanie O'Brien,
Acting Manager, National NAGPRA Program.

[FR Doc. 2015-02218 Filed 2-3-15; 8:45 am]

BILLING CODE 4312-50-P